DEPARTMENT OF COMMERCE

Foreign-Trade Zones Board

[B-80-2014]

Foreign-Trade Zone (FTZ) 127—West Columbia, South Carolina; Notification of Proposed Production Activity; Komatsu America Corporation (Material Handling, Construction and Forestry Machinery); Newberry, South Carolina

Komatsu America Corporation (Komatsu) submitted a notification of proposed production activity to the FTZ Board for its facility in Newberry, South Carolina, within FTZ 127. The notification conforming to the requirements of the regulations of the FTZ Board (15 CFR 400.22) was received on October 28, 2014.

The Komatsu facility is located within Site 3 of FTZ 127. The facility is used for the production of wheel loaders and forklift trucks, but may produce other material handling, construction and forestry machinery in the future, such as bulldozers, angledozers, hydraulic excavators, forestry harvesters, forestry feller bunchers, dump trucks (duty-free) and forestry forwarders. Pursuant to 15 CFR 400.14(b), FTZ activity would be limited to the specific foreign-status materials and components and specific finished products described in the submitted notification (as described below) and subsequently authorized by the FTZ Board.

Production under FTZ procedures could exempt Komatsu from customs duty payments on the foreign status components and materials used in export production. On its domestic sales, Komatsu would be able to choose the duty rates during customs entry procedures that apply to fork-lift trucks, wheel loaders, bulldozers, angledozers, hydraulic excavators, forestry harvesters, forestry feller bunchers, dump trucks (duty-free) and forestry forwarders (duty rate 25%) for the foreign status inputs noted below. Customs duties also could possibly be deferred or reduced on foreign status production equipment.

The components and materials sourced from abroad include: Paints; plastic hoses; hose joints; adhesive decals; plastic tags; plastic washers; plastic rings; plastic seals; plastic packings; plastic bands; PVC electric terminal caps; plastic clamps; plastic clips; rubber foam sheets; sponges; rubber pads w/adhesive; rubber weather strip; rubber weather strip seals; rubber hoses no fitting; rubber tubes; rubber hoses w/fittings not reinforced; rubber hoses w/fittings cover w/metal wire; rubber hoses reinforced w/textile; rubber hoses w/fittings reinforced; rubber hoses no fittings reinforced; rubber hoses for construction equipment; rubber hoses w/fittings cover w/metal wire & textile; molded rubber hoses; fan belts; alternators; v-belts reinforced w/textile; wheel loader tires; forklift tires; rubber floor mats; rubber grommets; rubber dust seals; rubber gaskets; rubber o-rings; rubber pads, no adhesive; rubber seals; rubber blocks; rubber caps; rubber clamps; rubber cushions; damper, operators compartment; rubber guards; cork plugs; glass wool; mirror for wheel loaders; sheet, fiber glass-heat resistant; elbows, alloy/cast/threaded; tees, alloy/cast/threaded; unions; flange hoses, alloy; elbows, tube non alloy; connectors, non-alloy steel fitting; quick couplers; steel wire ropes; chains for wheel loaders; screws for forklift; bolts, hex head, no nut; SEMS bolt and washer assemblies; screws, Phillip, no nut; nuts, hex head; bolts, hex head w/nut; screws w/nut; u-bolts w/nut; studs; nuts, steel for forklift; nuts, general application; washers, iron helical spring; washers, alloy; rivets; cotter pin clips; keys, steel; dowel pins not threaded; pins, metal, not threaded; helical springs; bands, hose/tube holders; metal clamps, hose holders; clips, hose/tube holder; plastic holders; elbows, brass, threaded; washers, brass; aluminum nuts; aluminum clamps, not threaded; steel clamps for forklift; keys, steel with padlock; lock assemblies; metal hinges for wheel loaders; handrails for wheel loaders; clips, alloy w/rubber coating; clips, electric wiring; springs, pneumatic cylinder; locks, metal latches; wheel loader consoles; name plates, vinyl; engines for wheel loaders; engines for forklifts; plugs, oil pan & suction tubes, steel; tilt cylinders for forklifts; cylinders for wheel loaders; motor assemblies for wheel loaders; shims, round, steel; fuel pumps; hydraulic pump assemblies; hydraulic gear pumps; couplings, hydraulic pump part; compressor assembly parts; air compressor collars; A/C receiver dryers; strainers, fuel filter; filter assemblies; air cleaner assemblies; diesel particle filter assemblies; cap, air cleaner, plastic; fire extinguisher assemblies; washer tank assemblies; axles for forklifts; bands, electric system; bars, for forklift counterweights; bonnets for forklifts; breathers, hydraulic system; clips for forklifts; collars for forklifts; control valves for forklifts; counterweights for forklifts; covers, electrical system, forklifts; damper stays, bonnet for forklifts; dashboard covers; dual tire spacers for forklifts; engine accessories for forklifts; fitting assemblies for forklifts; floors, steel plate; forklift main frames; forklift radiators; fuse holders; LPG fitting kits; ground straps; head guard assemblies for forklifts; hub & knuckle for forklifts; knob, operator compartment for forklifts; lever, steel for forklifts; light, LED w/switch; lights for forklifts; lock pin for forklifts; liquefied petroleum tanks for forklifts; metal bracket/block for forklifts; metal cap for forklifts; metal plug for forklifts; meter panels; mirrors for forklifts; mounts, engine mounting parts; mounting cushions for forklifts; mufflers; mufflers for forklifts; operator fans for forklifts; operator seats for forklifts; pedal assemblies; pins for forklifts; pipes for forklifts; radiators; reserve tank assemblies; rims for forklifts; shaft steering, steering columns for forklifts; shroud kits for forklifts; solenoid valves for forklifts; sponges, insulators for forklift frames; standard forks for forklifts; steel brackets for forklift lights; steel plates for forklifts; steel shims for forklifts; steering wheels for forklifts; sub-counterweights for forklifts; support brackets for forklift frames; tire spacers for forklifts; tire/rim assemblies for forklifts; tubes for forklifts; front buckets for wheel loaders; cylinders, bucket for wheel loaders; three valve lever consoles; adapters, hoses; additional counterweights for wheel loaders; air cleaners; axles for wheel loaders; bands, cab washer tanks; bands, threaded nuts; bar locks; battery cables; beacons; bellcranks for wheel loaders; machined metal blocks; blocks, hydraulic pumps; boom assemblies for wheel loaders; brackets, welded, steel; buckets for wheel loader; bushings, metal, multi application; cabs for wheel loaders; caps, radiator; caps, rubber, multiple purposes; catches; clamps; clamps, steel plate, multiple purposes; clips; collars, steel, for hinge pins; connectors; cool & heat boxes; counterweights; counterweights for wheel loaders; coupler assemblies for wheel loaders; couplings; covers, plastic for wheel loader; cushions, multiple application; cutting edges for buckets; cylinder assemblies; dashboards; decals; deflectors steel cover; doors for wheel loaders; elbows; elbows alloy/cast; elbows, main valves; elbows, steel, thread cast; fasteners; fenders, metal; finishers; flanges, hoses/metal/fittings; floors, metal sheets; foam sheets; frames, steel parts for wheel loaders; front frame assemblies for wheel loaders; front frame subassemblies for wheel loaders; fuel tank assemblies; fuel tanks for wheel loaders; function kits; grilles, radiators; grips; guards, steel; guides, hydraulic tank for wheel loaders; hand rails, steel; hinge pins, steel, not threaded; holders, steel brackets; hood assemblies for wheel loaders; hood kits for wheel loaders; hoods, metal sheet parts for wheel loaders; hydraulic tanks for wheel loaders; joints, hoses, alloy/threaded; joystick steering kits; knobs, fuel container levers, plastic; ladders, steel for wheel loaders; levers for wheel loaders; link assemblies, steel for bellcranks; loader controls for wheel loaders; lock bars; marks, waste handlers; metal blocks, seats; metal ladders; metal rods; metal rods for wheel loaders; multifunction lever consoles; mufflers for wheel loaders; nipples alloy piping; nipples tubes; nipples, hoses, steel threaded; oil coolers; operator seats for wheel loaders; pads; side panels; welded metal pipe assemblies; steel plates for wheel loaders; plates, vinyl adhesive; cork plugs, multiple uses; plugs for hydraulic tanks; plugs, fender; plugs, for wheel loaders; plugs, hoses, multiple application; plugs, miscellaneous uses; pre separators; radiator and grille assemblies; radiator and grille kits; rear battery relays; rear console covers; rear frame assemblies; rear frame assemblies for wheel loaders; rear underguards; retainers; rim assemblies for wheel loaders; cabs for wheel loaders; rubber hydraulic piping; seals; seat belts; seats, steel block motor/vehicle; seats, steel, multiple uses for wheel loaders; shafts for wheel loaders; shims, for front feeder systems; shims, steel; slack adjusters; sleeve/heads, not fitting multiple application; solenoid valves; sound absorption sheets for wheel loaders; spacers for air cleaner connect; spacers for brake piping; spacers, multiple application, metal, alloy; spring bars; step assemblies for wheel loaders; stoppers, multiple application for wheel loaders; strikers, hood door for wheel loaders; metal supports; supports, axle for wheel loaders; swivels; tanks, radiator reservoirs; tees, hoses, alloy/cast/threaded; tees, no hose/tube alloy-cast; third function jumper kits; tool boxes for wheel loaders; tooth kits, castings for wheel loader buckets; trim; tubes, alloy w/fitting for wheel loader; underguards; unions, hose, multiple application; unions, no hose/tube steel; ventilators; viscous mounts for wheel loader cabs; washers/spacers for wheel loaders; wedges; accumulators for forklifts; accumulators for wheel loaders; valve assemblies, pressure reducers, hydraulic; valve assemblies, pressure reducers, pneumatic; valves, brake control; control valves for wheel loaders; valve, plastic; check valves; valve assemblies, safety relief; solenoid valves; valves, check steel gates; band, control bands for forklifts; collars, main valve no fitting; covers, control valve for forklifts; knobs, control valves; lever subassemblies; nipples, valve part; orifices; plugs, control valves; poppets; shafts, control valve for forklifts; tubes, control valve; unions, control valves; union, pump hoses; bearings, radial ball; bearings, thrust; bearings, taper roller; bearings, needle; propeller shaft, drive shaft; bearings, flange housed; bushings, plain shaft bearings; thrust washers, plastic plain shaft; rear axle assemblies; transfer case assemblies for wheel loaders; transmission assemblies for forklifts; transfer case assemblies for wheel loaders; transmission assemblies; pulleys for forklifts; coupling assemblies for wheel loaders; axle assemblies; drive axles; axle assemblies for wheel loaders; ring gears, damper; transmissions for wheel loaders; collars, transmission fitting for wheel loader; couplings, not fit, damper, wheel loaders; deflectors, drive shaft; elbows for torque/transmission; holders for drive shaft; shims for drive shaft; packing for forklifts; rubber seals reinforce w/metal; steel grease fittings; seals, rubber reinforced w/metal & plastic; seals, rubber reinforcers w/metal & textile; torque converters; wet batteries for wheel loaders; wet batteries for forklifts; batteries, lead acid; switch 3 pins; metal holders; rear view cameras; radio AM/FM for wheel loaders; travel alarms; blinker brackets; button horns; buzzers, electrical system; flashers and holders; front light assemblies; lamps, back up; strobe lights; resistor assemblies for wheel loaders; resistor assemblies for forklifts; fuses, plastic & copper; relays, electric system; battery disconnect switches; pressure switches; switches, rocker; connectors, electrical; covers, battery wiring; fuse holders; terminals, brass, battery; engine controllers; caps, rubber, wiring harness, battery; head lights; rear lead lamps; light fuse harnesses; light stay harnesses; working lamps; covers, head lamp parts; switch timers; cables, battery; wiring harnesses for wheel loaders; cables, electrical system; cables for harness/battery; light harnesses; engine harnesses; bands, cab washer tanks; welded machined metal block assemblies; seats, steel block motor/vehicle; caps, radiator; clamps, steel plates, multiple purposes; elbows alloy/cast; front frame subassemblies for wheel loaders; metal ladders; viscous mounts for wheel loader cabs; nipples, alloy piping; plugs, cork multiple uses; spacers for brake piping; sensor assemblies, engine wiring; sensors, temperature; gauges, dipstick; sensors for floor frame wheel loaders; oil level gauges; pressure airflow sensors; sensors, switch; sensors for torque converter/transmission; sensors for boom; dome lights; dome light brackets; and, dome light harnesses (duty rates range from free to 12.5%).

Public comment is invited from interested parties. Submissions shall be addressed to the FTZ Board's Executive Secretary at the address below. The closing period for their receipt is December 23, 2014.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Diane.Finver@trade.gov or (202) 482-1367.

Elizabeth Whiteman,
Acting Executive Secretary.

[FR Doc. 2014-26889 Filed 11-12-14; 8:45 am]

BILLING CODE 3510-DS-P